DEPARTMENT OF AGRICULTURE

Forest Service

Coronado National Forest, Arizona; Alpha Calcit Marble Mine

AGENCY: Forest Service, USDA.

ACTION: Notice of intent to prepare an environmental impact statement.

SUMMARY: The Forest Service accepted a Plan of Operations from Alpha Calcit Arizona, Limited, for mining and road construction in the Dragoon Mountain Range of the Coronado National Forest in southern Arizona, as required by the1872 Mining Law, as amended, and its implementing regulations at 36 CFR part 228. The proposed mine expansion is located within an inventoried roadless area.

DATES: Comments concerning the scope of the analysis should be received by April 30, 2003. The draft environmental impact statement is expected by December, 2003. The final environmental impact statement is expected in March, 2004.

ADDRESSES: Send written comments to Jennifer Ruyle, Alpha Calcit Environmental Analysis Team Leader; Coronado National Forest; Federal Building, FB-42; 300 West Congress, Tucson, Arizona, 85701.

Send electronic mail comments to jruyle@fs.fed.us, Alpha Calcit Environmental Analysis Team Leader.

FOR FURTHER INFORMATION CONTACT: John McGee, Forest Supervisor, Coronado National Forest, USDA Forest Service or Jennifer Ruyle, Analysis Team Leader, Coronado National Forest, USDA Forest Service at the above address.

SUPPLEMENTARY INFORMATION: Alpha Calcit Arizona, Limited, is seeking approval for a Plan of Operations to expand an existing marble mine in the Dragoon Mountain Range of the Coronado National Forest in southern Arizona. The proposed mine expansion is located in an inventoried roadless area as defined in the Forest Service Roadless Area Conservation Final Environmental Impact Statement, November 2000. See page 14 of EIS Volume 2—Maps of Inventoried Roadless Areas, Coronado National Forest Inventoried Roadless Areas. This Forest Roadless Area map is also found on the web at http://roadless.fs.fed.us/states/az/coro.pdf. The proposal includes the construction of approximately ½ mile of new road in the inventoried roadless area, and reconstruction (widening) of existing access roads thereby making it subject to regulations at 36 CFR 294.12 and Interim Directive Forest Service Manual (FSM) 1925 policy. Paragraph (a) of the regulation prohibits new road construction or reconstruction in inventoried roadless areas while paragraph (b) provides exceptions to the prohibition. This proposal conforms to the requirements of exception (b)(3) in the regulations because the proposed road construction is needed pursuant to outstanding rights provided by statute (1872 Mining Law). This proposal also falls under similar exception language in FSM 1925.04 b (d).

Purpose and Need for Action

The purpose of this proposal is to make locatable mineral material available to Alpha Calcit Arizona, Limited, as provided by statute. The statutes authorizing this use of National Forest System lands and resources include the 1872 Mining Law, as amended, and its implementing regulations at 36 CFR part 228; the Federal Land Policy and Management Act of 1976, and Forest Service Policy as described in the Directives System (Forest Service Manual 2800).

The Forest Service accepted a Final Plan of Operations, as required by law, regulation and policy, from Alpha Calcit Arizona, Limited, for proposed mining of limestone, marble, and related products in the Dragoon Mountains of the Coronado National Forest. This action responds to the goals and objectives outlined in the Land and Resource Management Plan for the Coronado National Forest. It also contributes to meeting the goal of supporting environmentally sound minerals development and reclamation.

Proposed Action

The Proposed Action is to approve the Plan of Operations submitted by Alpha Calcit Arizona, Limited, to mine marble in the Tapia-Bliss claims in the Dragoon Mountain Range of the Coronado National Forest with mitigations for land and resource protection. The Final Plan of Operations accepted from Alpha Calcit Arizona, Limited, consists of:

• Expansion of an existing quarry for the purpose of mining marble, limestone, and related products from the Escabrosa limestone formation in the Dragoon Mountain Range of the Coronado National Forest,

• Mining 100,000 short tons (approximately 2,000 pounds per ton) of marble annually for a period of 20 years,

• Constructing a crushing facility on private land approximately 2,300 feet north of the center of the quarry area, in the NE ¼ of the NW ¼ of Section 33, T.17S., R.23E., (G&SRB&M),

• Employing blasting and the use of heavy equipment to move material from the quarry to the processing plant,

• Accessing the quarry area via County Road to the Forest boundary, and via Forest Road (FR) 689 from the boundary into the quarry area, and

• Constructing a new access road from the southeast end of the quarry to the top of the exposed face and top bench of the quarry in the SW ¼ of the SE ¼ of Section 33, T.17S., R.23E., (G&SRB&M).

This alternative includes modifications to mitigate effects. Mitigations include measures to address waste rock management, avoidance of significant archeological and historical sites, avoidance of impacts to resources and places important to tribes with traditional ties to the area, reclamation and revegetation, utility installation, protection of endangered, threatened, or sensitive flora or fauna, consideration of agave plants, water sources, hazardous material storage, and other best management practices.

Possible Alternatives

Alternative 1—No Action

The No Action Alternative would deny the Plan of Operations submitted by Alpha Calcit Arizona, Limited, to mine marble in the Tapia-Bliss claims in the Dragoon Mountain Range of the Coronado National Forest. Mining operations would not be implemented.

• The agency does not have discretion to deny statutory rights to mine locatable minerals subject to the 1872 Mining Law.

• The agency has discretion to deny the mining of common variety minerals, but it may be impractical to deny mining of common variety marble closely associated with locatable marble in the project area.

Alternative 2—The Proposed Action

Alternative 3

Approve the described Plan of Operations submitted by Alpha Calcit Arizona, Limited, to mine marble, without the mitigation measures listed previously.

Responsible Official

The Responsible Official is Harv Forsgren, Regional Forester. His address is Harv Forsgren, USDA Forest Service, Southwestern Region; 333 Broadway, Southeast; Albuquerque, New Mexico, 87102.

Nature of Decision To Be Made

Based on the results of the environmental analysis, the decision will address the following:

1. Whether or not the mining proposal would proceed as proposed or as modified by mitigation measures .

2. If mining activity is allowed, the mitigation measures and monitoring requirements that would be implemented.

3. Consistency with applicable laws, regulations, policies, and the Forest Plan.

Scoping Process

The Forest Service will be seeking information, comments and assistance from Tribal Governments, Federal, State and local agencies, individuals and organizations that may be interested in, or affected by, the proposed activities. Written comments will be solicited through a scoping report mailed to individuals and entities known to be interested or affected. This report will be mailed in March of 2003. Information about the proposal will also be available at a public open house to be held on March 11, 2003 from 3 PM to 8 PM, at the Benson Public Library, 300 S. Huachuca, Benson, AZ 85602.

Preliminary Issues

Analysis of the proposal, as submitted by the proponent, indicates that the following preliminary issues should be considered in the analysis. A final set of issues will be defined following scoping and consultation.

Heritage Resources

• Mining and support activities (access, construction of crushing facilities) may have adverse effects on archaeological and historical sites.

• The Dragoon Mountains are important in Chiracahua Apache history and culture; some Chiricahua Apaches retain traditional ties to the area. Mining activities may be incompatible with the historical and cultural associations.

Public Safety

• Truck traffic through an adjacent residential area, with mixed residential and truck traffic on Lizard Lane (access road) may pose a safety hazard.

• Mine traffic may conflict with cattle grazing along the access road.

Flora and Fauna

• Mining and associated activities may adversely affect populations or habitat of certain management indicator species.

• Mining and associated activities may adversely affect individuals, populations, or habitat of threatened, endangered, or sensitive species, including the Lesser long-nosed bat or American peregrine falcon.

Water Quantity and Quality

• Waters running in or around the mine and along the access road may adversely affect adjacent landowners and other Forest users.

• Lack of a water storage or filtration plant may adversely affect adjacent landowners and other Forest users.

• Potential dust mitigation (watering) may reduce local water supplies.

Access

• Proposed access may not be wide enough to allow haul vehicles to pass.

• Traffic conflicts may become acute during hunting season.

• Resolution of safety issues may result in restrictions on access by general Forest users.

Visual Quality

• Appearance of the mine face and roads may be incompatible with scenic qualities of the landscape.

Air Quality

• Mining activities (blasting, crushing, or use and maintenance of access roads) may increase dust.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage, but that are not raised until after completion of the final environmental impact statement, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: January 13, 2003.
Abel M. Camarena,
Deputy Regional Forester.

[FR Doc. 03-1693 Filed 1-24-03; 8:45 am]

BILLING CODE 3410-11-P